DEPARTMENT OF COMMERCE

International Trade Administration

[A-533-824]

Polyethylene Terephthalate Film, Sheet, and Strip From India: Final Results of Antidumping Duty Changed Circumstances Review

AGENCY: Enforcement and Compliance, International Trade Administration, Department of Commerce.

SUMMARY: On February 26, 2024, the U.S. Department of Commerce (Commerce) published the preliminary results of the changed circumstances review (CCR) of the antidumping duty (AD) order on polyethylene terephthalate film, sheet, and strip (PET film) from India. For these final results, Commerce continues to find that Garware Hi-Tech Films Limited (Garware Hi-Tech) is the successor-in-interest to Garware Polyester Limited (Garware Polyester).

DATES: Applicable May 21, 2024.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 22, 2023, Commerce published the notice of initiation of the requested CCR.¹ On February 26, 2024, Commerce published the preliminary results of this CCR, determining that Garware Hi-Tech is the successor-in-interest to Garware Polyester and should be assigned the same AD cash deposit rate assigned to Garware Polyester in the AD order on PET film from India,² and provided all interested parties with an opportunity to comment.³ No interested party submitted comments on the Preliminary Results. Accordingly, the final results remain unchanged from the Preliminary Results.

¹ See Polyethylene Terephthalate Film, Sheet, and Strip from India: Initiation of Antidumping Duty Changed Circumstances Review; Garware, 88 FR 57090 (August 22, 2023).

² See Notice of Amended Final Antidumping Duty Determination of Sales at Less Than Fair Value and Antidumping Duty Order: Polyethylene Terephthalate Film, Sheet, and Strip from India, 67 FR 44175 (July 1, 2002) (Order).

³ See Antidumping Duty Order on Polyethylene Terephthalate Film, Sheet, and Strip from India: Preliminary Results of Changed Circumstances Review, 89 FR 14053 (February 26, 2024) (Preliminary Results), and accompanying Preliminary Decision Memorandum.

Scope of the Order

The products covered by the order are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and customs purposes. The written description of the scope of this order is dispositive.

Final Results of CCR

For the reasons stated in the Preliminary Results, and because we received no comments from interested parties challenging our preliminary finding, Commerce continues to find that Garware Hi-Tech is the successor-in-interest to Garware Polyester. As a result of this determination and consistent with our established practice, we find that Garware Hi-Tech should receive the AD cash deposit rate currently assigned to Garware Polyester with respect to entries of subject merchandise in the above-noted proceeding.⁴ Because there are no changes from the Preliminary Results, there is no decision memorandum accompanying this notice and we are adopting the Preliminary Results as the final results of this CCR.

⁴ Id.

Consequently, Commerce will instruct U.S. Customs and Border Protection to suspend liquidation of all shipments of subject merchandise produced and/or exported by Garware Hi-Tech and entered, or withdrawn from warehouse, for consumption on or after the publication date of this notice in the Federal Register at 4.45 percent, which is the current AD cash deposit rate for Garware Polyester.⁵ This cash deposit requirement shall remain in effect until further notice.

⁵ See Polyethylene Terephthalate Film, Sheet, and Strip from India: Final Results of Antidumping Duty Administrative Review; 2017-2018, 85 FR 14883, 14884 (March 16, 2020), as amended by Polyethylene Terephthalate Film, Sheet, and Strip from India: Final Results of Antidumping Duty Administrative Review; 2017-2018; Correction, 88 FR 87751 (December 19, 2023).

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216(e), 351.221(b), and 351.221(c)(3).

Dated: May 15, 2024.
Ryan Majerus,
Deputy Assistant Secretary for Policy and Negotiations, performing the non-exclusive functions and duties of the Assistant Secretary for Enforcement and Compliance.

[FR Doc. 2024-11132 Filed 5-20-24; 8:45 am]

BILLING CODE 3510-DS-P